DEPARTMENT OF TRANSPORTATION

Federal Aviation Administration

Membership in the National Parks Overflights Advisory Group Aviation Rulemaking Committee

AGENCY: Federal Aviation Administration, Transportation.

ACTION: Notice.

SUMMARY: By Federal Register notice (See 79 FR 77594-77595, December 24, 2014) the National Park Service (NPS) and the Federal Aviation Administration (FAA) invited interested persons to apply to fill two existing openings and one upcoming opening on the National Parks Overflights Advisory Group (NPOAG) Aviation Rulemaking Committee (ARC). The notice invited interested persons to apply to fill two currently vacant seats representing environmental concerns and one future opening to represent Native American interests. This notice informs the public of the persons selected to fill these current and future vacancies.

FOR FURTHER INFORMATION CONTACT: Keith Lusk, Special Programs Staff, Federal Aviation Administration, Western-Pacific Region Headquarters, P.O. Box 92007, Los Angeles, CA 90009-2007, telephone: (310) 725-3808, email: Keith.Lusk@faa.gov.

SUPPLEMENTARY INFORMATION:

Background

The National Parks Air Tour Management Act of 2000 (the Act) was enacted on April 5, 2000, as Public Law 106-181, and subsequently amended in the FAA Modernization and Reform Act of 2012. The Act required the establishment of the advisory group within 1 year after its enactment. The NPOAG was established in March 2001. The advisory group is comprised of a balanced group of representatives of general aviation, commercial air tour operations, environmental concerns, and Native American tribes. The Administrator of the FAA and the Director of NPS (or their designees) serve as ex officio members of the group. Representatives of the Administrator and Director serve alternating 1-year terms as chairman of the advisory group.

In accordance with the Act, the advisory group provides “advice, information, and recommendations to the Administrator and the Director—

(1) On the implementation of this title [the Act] and the amendments made by this title;

(2) On commonly accepted quiet aircraft technology for use in commercial air tour operations over a national park or tribal lands, which will receive preferential treatment in a given air tour management plan;

(3) On other measures that might be taken to accommodate the interests of visitors to national parks; and

(4) At the request of the Administrator and the Director, safety, environmental, and other issues related to commercial air tour operations over a national park or tribal lands.”

Membership

The current NPOAG ARC is made up of one member representing general aviation, three members representing the commercial air tour industry, four members representing environmental concerns, and two members representing Native American interests. Current members of the NPOAG ARC are as follows:

Heidi Williams representing general aviation; Alan Stephen, Matt Zuccaro, and Mark Francis representing commercial air tour operators; Michael Sutton and Dick Hingson representing environmental interests with two open seats; and Rory Majenty and Martin Begaye representing Native American tribes. Rory Majenty's seat expires on April 2, 2015.

Selection

The persons selected to fill the two open seats representing environmental concerns are Nicholas Miller and Mark Belles. Their 3-year terms will begin on the day of this Federal Register notice publication. The person selected to fill the upcoming open seat representing Native American concerns is Leigh Kuwanwisiwma. Mr. Kuwanwisiwma's 3-year term will begin on April 3, 2015.

Issued in Hawthorne, CA on February 11, 2015.
Keith Lusk,
Program Manager, Special Programs Staff, Western-Pacific Region.

[FR Doc. 2015-03558 Filed 2-18-15; 8:45 am]

BILLING CODE 4910-13-P